DEPARTMENT OF TRANSPORTATION

Federal Aviation Administration

[Docket No. FAA-2019-0898]

Agency Information Collection Activities: Requests for Comments: Clearance of Renewed Approval of Information Collection: Representatives of the Administrator

AGENCY: Federal Aviation Administration (FAA), DOT.

ACTION: Notice and request for comments.

SUMMARY: In accordance with the Paperwork Reduction Act of 1995, FAA invites public comments about our intention to request the Office of Management and Budget (OMB) approval to renew an information collection. The collection involves contact information along with the education and experience of a person seeking to be appointed as an FAA Designated Engineering Representative (DER). The information to be collected will be used to determine the eligibility and qualifications of the DER applicant.

DATES: Written comments should be submitted by January 6, 2020.

ADDRESSES: Please send written comments:

By Electronic Docket: www.regulations.gov (Enter docket number into search field).

By mail: Scott Geddie, 6500 S MacArthur Blvd., ARB 308, Oklahoma City, OK 73169.

By fax: 405-954-2209.

FOR FURTHER INFORMATION CONTACT: Scott Geddie by email at: Scott.Geddie@faa.gov, phone: 405-954-6897.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0033.

Title: Representatives of the Administrator, 14 CFR part 183.

Form Numbers: FAA Form 8110-14.

Type of Review: Renewal of an information collection.

Background: Information in this collection is voluntarily submitted by persons applying to become an FAA Designated Engineering Representative (DER). DERs represent the FAA on aircraft certification projects. They examine engineering design data and determining whether aircraft built according to that data comply with published FAA airworthiness standards. Collecting this information allows the FAA to evaluate the eligibility and qualifications of the DER applicant.

This application form, 8110-14, Statement of Qualifications, provides the FAA with contact information for the applicant, along with the applicant's requested authorities. It outlines the applicant's education and pertinent experience that, in conjunction with additional narratives and other detailed information, allows the FAA to make an informed decision whether to appoint the applicant as an FAA representative.

Respondents: Persons applying to become an FAA Designated Engineering Representative.

Frequency: One time submittal.

Estimated Average Burden per Response: 1.5 hours.

Estimated Total Annual Burden: One time submittal. No annual burden.

Issued in Washington, DC.
Joy Wolf,
Directives & Forms Management Officer (DMO/FMO), Aircraft Certification Service.

[FR Doc. 2019-24316 Filed 11-6-19; 8:45 am]

BILLING CODE 4910-13-P